PEACE CORPS

Proposed Information Collection Renewals

AGENCY: Peace Corps.

ACTION: Submission for Office of Management and Budget (OMB) review; comment request.

SUMMARY: The Peace Corps has submitted the following two (2) information collection to the Office of Management and Budget (OMB) for extension under the provisions of the Paperwork Reduction Act of 1995. This notice invites the public to comment on the renewal of three information collections: Peace Corps Week Brochure (OMB 0420-0529); Peace Corps Career Information Consultation (CIC) Waiver Form (OMB Control No. 0420-0531); and, Peace Corps Response Application Form (OMB Control No. 0420-0533). Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

DATES: Comments regarding this collection must be received on or before April 8, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov. Copies of available documents submitted to OMB may be obtained from Denora Miller.

SUPPLEMENTARY INFORMATION: Proposal to renew the following three (3) information collections currently approved collection of information:

1. Title: Peace Corps Week Brochure.

OMB Control Number: 0420-0529.

Type of Review: Extension, without change, of a currently approved information collection.

Respondents: Returned Peace Corps Volunteers and parents of currently serving Peace Corps Volunteers.

Respondents Obligation to Reply: Voluntary.

Burden to the Public:

a. Estimated total annual reporting burden: 500 hours.

b. Estimated average burden response: 3 minutes.

c. Frequency of response: Once.

d. Estimated number of likely respondents: 10,000.

e. Estimated cost to respondents: $0.00.

General description of collection: This collection allows the Returned Volunteer Services Office to identify and provide support for interested people, promote these activities in local communities, and maintain address databases for future contact.

2. Title: Career Information Consultation (CIC) Waiver Form.

OMB Control Number: 0420-0531.

Type of Review: Regular—extension, without change, currently approved collection.

Respondents: Returned Peace Corps Volunteers and professionals in specific career fields.

Respondents Obligation to Reply: Voluntary.

Burden to the Public:

a. Total annual reporting burden: 208 hours.

b. Estimated average burden response: 5 minutes.

c. Frequency of response: Annually.

d. Estimated number of likely respondents: 2500.

General description of collection: Returned Volunteer Services needs this information to update contact information for individuals who volunteer to share information about their career field, their past or current employer(s), and their career and educational paths with current and returned Peace Corps Volunteers. These individuals voluntarily provide this information in assisting with employment re-entry for Returned Peace Corps Volunteers. This is a service outreach part of transitioning from the Peace Corps to the business world. The individuals who provide the information are offering to assist, mentor or network for jobs.

3. OMB Control Number: 0420-0533.

Old Title: Peace Corps Crisis Corps Application Form.

New Title: Peace Corps Response Application Form.

Type of Review: Extension, with change, of a currently approved information collection. A section was added to address specific qualifications for which the applicant is applying:

“Please explain how your skills and experience will lead to the overall success of this project.”

Respondents Obligation to Reply: Voluntary.

Burden to the Public:

a. Estimated annual number of respondents: 1000.

b. Estimated average time to respond: 7 minutes.

c. Estimated total annual burden hours: 117 hours.

d. Frequency of response: One time.

e. Estimated cost to respondents: $0.00.

General description of collection: Returned Volunteer Services needs this information to update contact information for individuals who volunteer to share information about their career field, their past or current employer(s), and their career and educational paths with current and returned Peace Corps Volunteers. These individuals voluntarily provide this information in assisting with employment re-entry for Returned Peace Corps Volunteers. This is a service outreach part of transitioning from the Peace Corps to the business world. The individuals who provide the information are offering to assist, mentor or network for jobs.

Dated: March 3, 2011.
Earl W. Yates,
Associate Director for Management.

[FR Doc. 2011-5314 Filed 3-8-11; 8:45 am]

BILLING CODE 6051-01-P